DEPARTMENT OF DEFENSE

Office of the Joint Chiefs; Privacy Act of 1974; System of Records

AGENCY: Office of the Joint Chiefs, DoD.

ACTION: Notice to amend a system of records.

SUMMARY: The Office of the Joint Chiefs is amending a system of records notice in its inventory of records systems subject to the Privacy Act of 1974, as amended (5 U.S.C. 552a).

DATES: The changes will be effective on June 9, 2003 unless comments are received that would result in a contrary determination.

ADDRESSES: Send comments to OSD Privacy Act Coordinator, Records Management Section, Washington Headquarters Services, 1155 Defense Pentagon, Washington, DC 20301-1155.

FOR FURTHER INFORMATION CONTACT: Mr. Dan Cragg at (703) 601-4722.

SUPPLEMENTARY INFORMATION: The Office of the Joint Chiefs notices for systems of records subject to the Privacy Act of 1974 (5 U.S.C. 552a), as amended, have been published in the Federal Register and are available from the address above.

The specific changes to the records system being amended are set forth below followed by the notice, as amended, published in its entirety. The proposed amendments are not within the purview of subsection (r) of the Privacy Act of 1974 (5 U.S.C. 552a), as amended, which requires the submission of a new or altered system report.

Dated: April 30, 2003.
Patricia L. Toppings,
Alternate OSD Federal Register Liaison Officer, Department of Defense.

JS007MPD

System name:

Joint Manpower Automation System (September 20, 2001, 66 FR 48431).

Change:

* * * * *

Purpose(s):

Delete “for the CINC” from entry.

* * * * *

JS007MPD

System name:

Joint Manpower Automation System.

System location:

Primary system: the Joint Staff (J-1), The Pentagon, Room 1D957, Washington, DC 20318-1000.

Decentralized Segments: National Defense University, Directorate of Resource Management, ATTN: RMD-M, Ft McNair, Washington, DC 20319-6000.

Headquarters, U.S. Space Command, ATTN: J1, Peterson Air Force Base, CO 80914-5001.

Headquarters, U.S. Pacific Command, ATTN: J1, Camp H. M. Smith, HI 96861-5025.

HQ U.S. Strategic Command, ATTN: J11, Offutt Air Force Base, NE 68113.

Headquarters, U.S. European Command, ATTN: ECJ1, APO AE 09128-4209.

Headquarters, U.S. Southern Command, ATTN: SCJ1, APO AA 34003-0100.

Headquarters, U.S. Transportation Command, ATTN: J-1, Scott Air Force Base, IL 62225.

Headquarters, U.S. Central Command, ATTN: CCJ1, MacDill Air Force Base, FL 33608-7001; and

U.S. Joint Forces Command, 1562 Mitscher Avenue, Suite 200, Norfolk, VA 23511-2488.

Categories of individuals covered by the system:

All military and civilian personnel assigned to duty at each of the activities cited above.

Categories of records in the system:

Files contain personnel information which has been extracted from official personnel files, including name; grade/rank; Social Security Number; salary; family member information; home address and telephone number; security clearance and date; date of rank; date of birth; Service; sex; race; marital status; reporting/departure date; current assignment data; education; experience; language proficiency; schooling; rating chain; and physical fitness data such as height, weight, fitness test results, body fat percentage, HIV test date.

Authority for maintenance of the system:

10 U.S.C., Chapter 5, Sections 151-155 and Chapter 6, Section 165; and E.O. 9397 (SSN).

Purpose(s):

To be used by officials of the personnel divisions of the decentralized segments noted above in performing all administrative functions as appropriate with respect to personnel assigned; for monitoring and processing requests for manpower; for performing organizational and manpower reviews; and for processing personnel actions requested by or required for the individual.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Joint Staff compilation of records system notices apply to this record system.

Policies and practices for storing, retrieving, accessing, retaining, and disposing of records in the system:

Storage:

Records exist on magnetic tape, diskette, and other machine-readable media.

Retrievability:

Retrieved by name, Social Security Number, and/or any combination of the data fields described in ‘Categories of Records.’

Safeguards:

Access to this record system is restricted to authorized personnel in performance of official duties. Entry into the system is controlled by password.

Retention and disposal:

Records are deleted when no longer needed for current business. This is in accordance with Item 5, General Records Schedule 20.

System manager(s) and address:

Joint Manpower Automation System Project Manager, Manpower Management Division, Manpower and Personnel Directorate, J-1, the Joint Staff, Washington, DC 20318-1000.

Notification procedure:

Individuals seeking to determine whether information about themselves is contained in this system should address written inquiries to the Joint Manpower Automation System Functional Manager, Manpower Management Division, Manpower and Personnel Directorate, J-1, the Joint Staff, Washington, DC 20318-1000.

Record access procedures:

Individuals seeking access to information about themselves contained in this system should address written inquiries to the Joint Manpower Automation System Project Manager, Manpower Management Division, Manpower and Personnel Directorate, J-1, the Joint Staff, Washington, DC 20318-1000.

Written requests should include full name, Social Security Number, address, and signature of the requester.

Contesting record procedures:

The Joint Staff rules for accessing records and for contesting contents and appealing initial determinations are contained in OSD Administrative Instruction 81; Joint Administrative Instruction 2530.9A; 32 CFR part 311; or may be obtained from the system manager.

Record source categories:

Source of information is the individual and the individual's Official Personnel File.

Exemptions claimed for the system:

None.

[FR Doc. 03-11570 Filed 5-8-03; 8:45 am]

BILLING CODE 5001-08-P